Proclamation 10882 of January 14, 2025

Establishment of the Sáttítla Highlands National Monument

By the President of the United States of America

A Proclamation

In northern California, the awe-inspiring geological wonders collectively described here as the Sáttítla Highlands have framed the homelands of Indigenous communities and cultures for millennia, and today this area continues to cradle historic and scientific treasures of our Nation. At this area's core rests a sleeping giant: the Medicine Lake Volcano. This massive volcano—one of the two largest volcanos in the Cascades Volcanic Arc—covers an expanse roughly 10 times that of Mount St. Helens, Washington. “Medicine Lake,” as labeled in English on some maps since approximately 1890, is found within the summit caldera of the volcano for which it is named. Far earlier and through the present day, however, these stunning and unusual lands have been known as “Sáttítla” in the Ajumawi language, which translates to “obsidian place.” Sáttítla's obsidian deposits formed by the volcano have long been important to Indigenous peoples, as shown by obsidian tools and sites they left here from their lives and travels. The Sáttítla Highlands area as described here includes parts of the Modoc, Shasta-Trinity, and Klamath National Forests, and stretches from Sharp Mountain, Wild Horse Mountain, and Little Horse Peak in the west, to Cougar Butte, Glass Mountain, and Border Mountain in the east, and to encompass the cinder cones known as Porcupine Butte, Timber Hill, Snag Hill, and Powder Hill in the south.

Sáttítla includes portions of the ancestral homelands of the Pit River (Ajumawi—Atsugewi) and Modoc Peoples (Mo Wat Knii—Mo Docknii). For them and many other Indigenous peoples—including the Karuk, Klamath, Shasta, Siletz, Wintu, and Yana and individual Tribes that are members of these groups—the volcanic landscape holds and reflects exceptional power and is central to their spiritual beliefs and cultural practices. The Modoc believe Medicine Lake is a place of healing and have referred to the lake and its banks as “Lani'shwi.” Plants and animals found within Sáttítla's habitats include many that are rare or vulnerable and have long been important to the Indigenous peoples of the area for food, medicine, and ceremonies. Sáttítla's remarkable geologic formations and the ecosystems cultivated within and around them have shaped the history and cultures of generations of Indigenous peoples.

This area contains evidence of human occupancy dating back at least 5,000 years. For members of the Pit River Tribe, Sáttítla, as part of the broader landscape within which it sits, is central to their creation stories and core to their physical, mental, spiritual, and cultural health. Their cultural and spiritual connections to Sáttítla reach across time and space, linking a web of heritage sites near and far and underscoring the importance of this land to the Indigenous people who have lived here throughout history. They believe that the people and the land are one in the same, not only that one cannot be separated from the other, but that one cannot exist without the other. Sáttítla's deep silence, local plants and animals, unobstructed views across the landscape, and pure water sources are necessary to carry out customs, traditions, and ceremonies of the Indigenous peoples connected to this area. This area has long provided a place for vision quests, gathering of medicinal plants, spiritual training and purification ceremonies, obsidian gathering, and religious activities that demand privacy, solitude, and unobscured access to both day and night skies. The night skies of Sáttítla, where distant galaxies and stars are visible, are renowned for being among the darkest in the United States.

Located at the southern reaches of the Modoc Peoples' ancestral homelands, Sáttítla could be seen from across Modoc territory. The volcano and surrounding highlands were central to ceremonial life of the Modoc, and the area is an enduring place of historic and cultural significance. The area continues to serve as a place of gathering, healing, and spiritual importance for surrounding Indigenous peoples—including the Karuk, Klamath, Shasta, Siletz, Wintu, and Yana. Tribal Nations collaborate in some of these activities, including ceremonies in and around Medicine Lake.

At least 85 plant species found in Sáttítla are used by Indigenous peoples for healing, medicine, food, tools, building materials, and as ceremonial objects and are considered to have powerful medicinal and ceremonial uses. For example, Indigenous people used lichen from this area to dye materials used to adorn clothes and ornaments.

Evidence of Indigenous peoples can be found throughout Sáttítla. Sites in various parts of the area exhibit evidence of obsidian quarrying and use by Indigenous peoples, with some containing unique assemblages of flaked stone and obsidian tools, waste materials from tool manufacture, and blades and cutting implements. Larger obsidian blades, including those quarried and found in Sáttítla, were highly prized as items of wealth and prestige in Indigenous cultures throughout the region. Obsidian quarried within Sáttítla was an important resource in a broad Indigenous trade network throughout northern California and the California Coast, and within southern Oregon. The Indigenous peoples of the region believe that distinct sources of Sáttítla obsidian—such as obsidian deposits in the central part of this area—retain special roles and significance in different uses. In various locations, evidence of precontact hunting blinds and groundstone implements also highlight that Indigenous peoples have lived and hunted across Sáttítla.

In view of the importance of these lands to Indigenous peoples and the rich cultural resources found here, in 1999, the National Register of Historic Places determined approximately 33,000 acres of the Sáttítla area centered on Medicine Lake to be eligible as a Traditional Cultural Property District. Further, in 2007, the U.S. Forest Service and the Bureau of Land Management developed the Medicine Lake Highlands Historic Property Management Program, which extended this district to encompass approximately 73,000 acres.

Indigenous peoples would likely have witnessed some of the more recent eruptions of the Medicine Lake Volcano—which have occurred multiple times in the past 12,500 years and as recently as 950 years ago—reshaping their sacred lands as they watched, and creating geologic formations and other objects still visible today. Future volcanic activity will likely continue to shape these highlands. As a result of its dynamic geology and millennia of human occupation, Sáttítla contains numerous objects of historic and scientific interest—some formed by the volcano and surrounding ecosystems and others, like obsidian tools and ceremonial sites, created by Indigenous peoples—and is integrally connected to the Indigenous Knowledge amassed by the Tribal Nations and Indigenous peoples in the area over countless generations. Some of the objects in this area are sacred to Tribal Nations, are sensitive, rare, or vulnerable to vandalism and theft, or are unsafe to visit. Therefore, revealing their specific names or locations could pose a danger to the objects or to the public.

The lava flows emanating off the flanks of Medicine Lake Volcano extend in every direction for more than 30 miles, through and, in some places, even beyond Sáttítla. Eons of historic geological activity provide visitors with vast panoramas of stark, unvegetated lava fields exemplified by the Burnt Lava Flow Geologic Special Interest Area in the southeast and the Callahan Flow in the north, and extending into Lava Beds National Monument along the northeast corner. The area's concentration of lava flows that are fewer than 13,000 years old makes Sáttítla one of the premier places to view geologically young lava flows in California—and in the United States.

In addition to volcanologists who have come to Sáttítla to study and understand the depths of the earth's core, astronauts have also learned from the area. Between 1965 and 1967, the area's Pumice Crater—located in the central portion of Sáttítla—was used by the National Aeronautics and Space Administration for Apollo program astronauts who trained in the collection and identification of lunar-like geologic features to be prepared for observation and sampling on the moon. Multiple groups of astronauts traveled to the Pumice Crater area, and four of those astronauts flew Apollo missions, making this crater an important piece of space exploration history.

Many of the lava flows within Sáttítla created islands of remnant forests that were elevated enough to escape the deluge of lava. In the north central area of Sáttítla, one such island is Black Lava Butte, which is dominated by shrubs, grasses, and old-growth ponderosa pine. Isolated from historical logging and development, these islands of forest provide valuable laboratories for future study of enduring and unaltered ecosystems.

The southern portion of Sáttítla is home to miniature volcanoes known as spatter cones, a well-preserved and accessible handful of which appear adjacent to the Giant Crater Lava Flow located in the south-central portion of the area. Sáttítla's more than 100 cinder cones—which are formed when lava cools mid-air and falls as fragments creating mounds, including Pumice Stone Mountain, Paint Pot Crater, and Porcupine Butte—are intact, making them of particular scientific interest.

The Fourmile Hill Tree Molds Geologic Area, situated on the north flank of the Medicine Lake volcano, contains dozens of molds formed over 12,000 years ago when molten lava flowed through a conifer forest leaving behind casts of the ancient tree trunks. These trace fossils can help improve scientists' understanding of the complex geologic history of the region.

Sáttítla also contains hundreds of cave-like lava tubes, which were formed over time when molten basaltic lava flows cooled. Many of these formations are relatively unexplored, with more likely yet to be discovered through future scientific inquiry. The Giant Crater lava tube originates just south of Medicine Lake, extends southward within Sáttítla, and ultimately forms the longest known lava tube system in the world.

Sáttítla is nearly devoid of surface water drainages, but its surface waters only hint at what is stored underground, as most of the precipitation that falls in this area filters down through the porous volcanic rock filling underground aquifers. These aquifers supply water to spring systems in northern California—and ultimately to the Sacramento River to the south and the Lower Klamath and Tule Lake National Wildlife Refuges to the north.

The first known Euro-American reports of Sáttítla emerged in 1826-27, with settler-driven development appearing in the region in the 1870s. The Tickner Road, constructed in 1871, served as one of the earliest routes across Siskiyou County, and remnants of two tracks are still visible in isolated sections in the northeast portion of the area.

As Euro-Americans settled in the traditional homelands of the area's Indigenous peoples, many Tribal Nations suffered dispossession and, often, forced removal. The brutalities against them by Euro-Americans were systemic, as evidenced by California's first Governor declaring a “war of extermination” against the Indigenous peoples, and the California State Legislature appropriating a half-million dollars to pay for militia campaigns to kill them. By 1872, hostilities between the U.S. Army and the Modoc Peoples exploded into the Modoc War. Tickner Road was used by the U.S. military during the Modoc War as a supply route, and its remnants serve as a physical marker of this war. While battles took place in lava fields outside and to the north of the area, some Modoc people sought refuge in Sáttítla, where they successfully avoided relocation after the war and ultimately integrated with the Klamath Tribes. For these members of the Modoc, their connection to and knowledge of the Sáttítla area proved life-saving. Other members were less fortunate; following the war several Modoc leaders were captured and hanged, and the remaining approximately 150 survivors were forcibly relocated to Oklahoma. In view of these atrocities and the resulting loss of homelands, Sáttítla and the objects it contains remain particularly significant both to the Modoc and to our Nation's history.

The area's verdant forests and exceptional geology together have supported and still illustrate important parts of the region's history. For example, Sáttítla's high quality and accessible stands of ponderosa pine attracted the development of railroad logging operations, which came to this area at the end of the 19th century. Today, within the western and northern part of this area, visitors can see the remains of hundreds of miles of railroad grades, relics of logging camps, maintenance stations, loading and switchyards, and other traces from the railroad logging era.

Near the center of Sáttítla, Little Mt. Hoffman Lookout Tower provides panoramic views across and outside of the area to distant Mt. Shasta, Mt. Lassen, and the Tule Lake Basin. Constructed in the 1920s, and eligible for listing on the National Register of Historic Places, the tower was actively used as a wildfire lookout until 1978 and today it provides a chance to see much of the Sáttítla Highlands from the edge of the volcano's caldera.

Sáttítla's exceptionally varied habitats also support high levels of biodiversity, including a variety of sensitive and endemic species. For example, the Federally listed northern spotted owl relies on mature forest habitat, which is scattered throughout the southern and western portions of Sáttítla. The area also partially overlaps the historic range of the Federally listed Franklin's bumblebee, which has one of the most limited geographic distributions of any bumblebee in the world. The Townsend's big-eared bat, a State of California Species of Concern, uses the region's lava tube caves for roosting. The Swainson's hawk returns from South America in the spring to breed in the low-elevation juniper forests, sagebrush, and bitterbrush habitats found along the northwestern edge of area. In the northern portion of Sáttítla, the Three Sisters Bald Eagle Winter Roost Area provides habitat for bald eagles, endangered in California. Scattered aquatic and riparian habitats in the western portion of the area support two State of California Species of Special Concern, the Cascades frog and long-toed salamander. Other species known to be north and south of Sáttítla, such as the Federally listed gray wolf, likely migrate through this area, with Sáttítla providing transitory habitat.

Sáttítla supports the survival of at least 16 plants considered threatened, endangered, or rare in California, including the Federally listed whitebark pine growing near Garner Mountain in the western portion of the area, as well as a diverse community of fungi, with 20 species considered rare or sparsely distributed. Amongst host trees is the Pacific fuzzwort, a rare liverwort that is at the southern end of its habitat in northern California, and the sugarstick, a parasitic plant associated with the roots of old-growth conifers. As the climate continues to warm, high-elevation habitats within Sáttítla will remain critical refugia for species including the gray-headed pika and the Sierra Nevada red fox, a State of California threatened species.

Sáttítla continues to provide traditional cultural resources used by Tribal and Indigenous communities, including food staples like sugar pine seeds and berries from gooseberry, currant, and manzanita, as well as plants collected for their medicinal properties, such as bitter cherry and Prince's pine. Various plants found in Sáttítla were historically used by Indigenous peoples for hunting, such as the blue elderberry whose pithy stem-wood was fashioned into elk whistles and is still collected today.

Sáttítla's soils, formed from lava over time, are home to several sensitive plants, including the sensitive talus collomia, the snow fleabane daisy, little hulsea, and pyrola-leaved buckwheat, all of which are restricted to fewer than four counties in Northern California.

At the lower elevations along the northwestern portion of Sáttítla, western juniper and ponderosa pine occur above a collection of Great Basin-type shrubs, including curl-leaf mountain-mahogany, bitterbrush, rubber rabbitbrush, and big sage. The leaves, bark, flowers, and seeds from these shrubs were used by Indigenous peoples to make dye and medicines, and the dense wood of mountain-mahogany was used to make digging sticks, fire drills, bows, arrow shafts, and throwing sticks. Two species uncommon in California are found in the dry, volcanic soils near the northern boundary of Sáttítla: the tiny annual doublet and the cushion-like squarestem phlox.

Wet meadows and fens are infrequent within the landscape, but where they occur, they provide habitat for wetland plant species such as the California-endangered Boggs Lake hedge-hyssop and the three-ranked hump moss. Traditional cultural plants found in these wetter habitats, including clover, yarrow, mountain strawberry, Baltic rush, and several grasses, were historically gathered for food, basket materials, and for their medicinal properties. Further, sensitive vernal pools are situated southeast of Medicine Lake, supporting species including Oregon sedge.

Protection of Sáttítla will conserve the diverse array of cultural, precontact, historic, natural, and scientific resources—that the volcano at its core has shaped—for the benefit of all Americans. It is vital to preserve this unique geologic landscape that holds sites and objects of historical, traditional, cultural, and spiritual significance for Tribal Nations and Indigenous peoples who have gathered Indigenous Knowledge and practiced and shaped their cultures linked integrally to this area over countless generations. In addition to containing numerous objects of historic and scientific interest as described above, this area also provides exceptional outdoor recreational opportunities, including hiking, biking, snowmobiling, camping, hunting, scenic driving, and canoeing.

WHEREAS, section 320301 of title 54, United States Code (the “Antiquities Act”), authorizes the President, in the President's discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, Sáttítla has long been profoundly sacred to Tribal Nations and Indigenous peoples with ties to these highlands; and

WHEREAS, I find that all the objects identified above, and objects of the type identified above within the area described herein, are objects of historic or scientific interest in need of protection under section 320301 of title 54, United States Code, regardless of whether they are expressly identified as objects of historic or scientific interest in the text of this proclamation; and

WHEREAS, I find that there are threats to the objects identified in this proclamation, and in the absence of a reservation under the Antiquities Act, these objects are not adequately protected by applicable law or administrative designations, thus making a national monument designation and reservation necessary to protect the objects of historic and scientific interest identified above for current and future generations; and

WHEREAS, I find that the boundaries of the monument reserved by this proclamation represent the smallest area compatible with the proper care and management of the objects of scientific or historic interest identified above, as required by the Antiquities Act; and

WHEREAS, it is in the public interest to ensure the preservation, restoration, and protection of the objects of scientific and historic interest identified above;

NOW, THEREFORE, I, JOSEPH R. BIDEN JR., President of the United States of America, by the authority vested in me by section 320301 of title 54, United States Code, hereby proclaim the objects identified above that are situated upon lands and interests in lands owned or controlled by the Federal Government to be the Sáttítla Highlands National Monument (monument) and, for the purpose of protecting those objects, reserve as part thereof all lands and interests in lands that are owned or controlled by the Federal Government within the boundaries described on the accompanying map, which is attached hereto and forms a part of this proclamation. These reserved Federal lands and interests in lands encompass approximately 224,676 acres. As a result of the distribution of the objects across the Sáttítla Highlands, the boundaries described on the accompanying map are confined to the smallest area compatible with the proper care and management of the objects of historic or scientific interest identified above.

All Federal lands and interests in lands within the boundaries described of the monument are hereby appropriated and withdrawn from all forms of entry, location, selection, sale, or other disposition under the public land laws or laws applicable to the Forest Service other than by exchange that furthers the protective purposes of the monument; from location, entry, and patent under the mining laws; and from disposition under all laws relating to mineral and geothermal leasing.

The establishment of the monument is subject to valid existing rights. If the Federal Government subsequently acquires any lands or interests in lands not currently owned or controlled by the Federal Government within the boundaries described on the accompanying map, such lands and interests in lands shall be reserved as a part of the monument, and objects of the type identified above that are situated upon those lands and interests in lands shall be part of the monument, upon acquisition of ownership or control by the Federal Government.

Nothing in this proclamation shall be construed to alter the valid existing water rights of any party, including the United States. This proclamation does not reserve water as a matter of Federal law.

The Secretary of Agriculture (Secretary), through the Forest Service, shall manage the monument pursuant to applicable legal authorities, as part of the Modoc, Shasta-Trinity, and Klamath National Forests, and in accordance with the terms, conditions, and management direction provided by this proclamation.

For purposes of protecting and restoring the objects identified above, the Secretary shall prepare, in consultation with the Secretary of the Interior, within 3 years from the date of this proclamation, a management plan for the monument, which shall include provisions for continuing outdoor recreational opportunities consistent with the proper care and management of the objects identified above, and shall promulgate such rules and regulations for the management of the monument as the Secretary shall deem appropriate. The Secretary, through the Forest Service, shall consult with other Federal land management agencies or agency components in the local area, including the Bureau of Land Management, the Fish and Wildlife Service, the Department of Defense, and the National Park Service, in developing the management plan.

The Secretary shall provide for maximum public involvement in the development of the management plan, as well as consultation with federally recognized Tribal Nations with cultural or historical connections to the monument, and conferral with State and local governments. In preparing the management plan, the Secretary shall take into account, to the maximum extent practicable, maintaining the undeveloped character of the lands within the monument; minimizing impacts from surface-disturbing activities; providing appropriate and, where consistent with the proper care and management of the objects of historic or scientific interest identified above, improving access for recreation, hunting, fishing, wildfire risk reduction, wildlife management, and scientific research; and emphasizing the retention of natural quiet, dark night skies, and scenic values. In the development and implementation of the management plan, the Secretary shall maximize opportunities, pursuant to applicable legal authorities, for shared resources, operational efficiency, and cooperation, and shall, to the maximum extent practicable, provide for the careful and full incorporation of the Indigenous Knowledge and special expertise of Tribal Nations.

The Secretary shall consider appropriate mechanisms to provide for temporary closures to the general public of specific portions of the monument to protect the privacy of cultural, religious, and gathering activities by members of Tribal Nations.

The Secretary, through the Forest Service, shall establish an advisory committee under chapter 10 of title 5, United States Code (commonly known as the Federal Advisory Committee Act), to provide advice or recommendations regarding the development of the management plan and, as appropriate, management of the monument. The advisory committee shall consist of a fair and balanced representation of interested stakeholders, including State agencies and local governments; Tribal Nations; recreational users; conservation organizations; wildlife, hunting and fishing organizations; the scientific community; business owners; the forestry community; and the general public in the region.

In recognition of the value of collaboration with Tribal Nations for the proper care and management of the objects identified above, and to ensure that management of the monument is informed by, integrates, and reflects Tribal expertise and Indigenous Knowledge (including in regard to the practice of cultural burning), as appropriate, the Secretary shall meaningfully engage with Tribal Nations with cultural or historic affiliation to the Sáttítla region including by seeking opportunities for co-stewardship of the monument.

If Tribal Nations with cultural or historic affiliation to the Sáttítla region independently establish a commission or other similar entity (commission) comprised of elected officers or official designees from each participating Tribal Nation to engage in co-stewardship of the monument with the Federal Government through shared responsibilities or administration, then the Secretary shall meaningfully engage the commission in the development, revision, or amendment of the management plan and the management of the monument, including by considering and, as appropriate, integrating the Indigenous Knowledge and special expertise of the members of the commission in the planning and management of the monument. The management plan for the monument shall also set forth parameters for continued meaningful engagement with the commission, if established, in the implementation of the management plan and, as appropriate, incorporate public education on and interpretation of traditional place names and the cultural significance of land within the monument into the management plan. The Secretary shall explore opportunities to provide support to the commission, if established, to enable participation in the planning and management of the monument.

The Secretary shall also explore entering into cooperative agreements or contracts, pursuant to the Indian Self-Determination and Education Assistance Act, 25 U.S.C. 5301 et seq., or other applicable authorities, with Tribes or Tribal organizations to perform administrative or management functions within the monument and providing technical and financial assistance to improve the capacity of Tribal Nations to develop, enter into, and carry out activities under such cooperative agreements or contracts. The Secretary also shall explore opportunities for funding agreements with Tribal Nations relating to the management and protection of traditional cultural properties and other culturally significant programming associated with the monument.

Nothing in this proclamation shall be deemed to alter, modify, abrogate, enlarge, or diminish the rights or jurisdiction of any Tribal Nation, including off-reservation reserved rights. The Secretary shall, to the maximum extent permitted by law and in consultation with Tribal Nations, ensure the protection of sacred sites and cultural properties and sites in the monument and shall provide access to Tribal members for traditional cultural, spiritual, and customary uses, consistent with the American Indian Religious Freedom Act (42 U.S.C. 1996), the Religious Freedom Restoration Act (42 U.S.C. 2000bb et seq.), Executive Order 13007 of May 24, 1996 (Indian Sacred Sites), and the November 10, 2021, Memorandum of Understanding Regarding Interagency Coordination and Collaboration for the Protection of Indigenous Sacred Sites. Such uses shall include but are not limited to, traditional hunting activities and the traditional collection of waters, medicines, berries and other vegetation, obsidian and other mineral products, forest products, and firewood for ceremonial practices, so long as each use is carried out consistent with applicable law and in a manner consistent with the proper care and management of the objects identified above.

The Secretary shall explore mechanisms, consistent with applicable law, to enable the protection of Indigenous Knowledge or other information relating to the nature and specific location of cultural resources within the monument and, to the extent practicable, shall explain to the holders of such knowledge or information any limitations on the ability to protect such information from disclosure before it is shared with the Department.

Consistent with the care and management of the objects identified above, the Secretary shall manage livestock grazing as authorized under existing permits and allotments, and subject to appropriate terms and conditions in accordance with existing laws and regulations. The Secretary shall not issue new grazing permits and shall not designate new allotments on Federal lands within the monument where livestock grazing is not currently allowed.

Nothing in this proclamation shall be construed to preclude the renewal or assignment of, or interfere with the operation, maintenance, replacement, modification, upgrade, or access to, existing or previously approved flood control, utility, pipeline, and telecommunications sites or facilities; roads or highway corridors; seismic monitoring facilities; or water infrastructure, including wildlife water developments or water district facilities, within the boundaries of existing or previously approved authorizations within the monument. Existing or previously approved flood control, utility, pipeline, telecommunications, and seismic monitoring facilities, roads or highway corridors, and water infrastructure, including wildlife water developments or water district facilities, may be expanded, and new facilities of such kind may be constructed, to the extent consistent with the proper care and management of the objects identified above and subject to the Secretary's authorities and other applicable law.

For purposes of protecting and restoring the objects identified above, the Secretary shall prepare a transportation plan that designates the roads and trails on which motorized and non-motorized mechanized vehicle use will be allowed. The transportation plan shall include management decisions, including road closures and travel restrictions, necessary to protect the objects identified in this proclamation. Except for emergency purposes and authorized administrative purposes, motorized vehicle use in the monument may be permitted only on roads and trails documented as existing in USDA Forest Service route inventories that exist as of the date of this proclamation. Any additional roads or trails designated for motorized vehicle use by the general public must be designated only for the purposes of public safety needs or if necessary for the protection of the objects identified above.

Nothing in this proclamation shall affect the ability of the Forest Service or the Bureau of Land Management, after consultation with the Forest Service, to provide access to or to remediate or monitor contaminated lands within the monument, including to provide ancillary road and utility access or water control developments, or access for remediation of geothermal, mine, mill, or tailing sites, for the restoration of natural resources, or for the plugging and abandonment of wells.

Nothing in this proclamation shall preclude low-level overflights of military aircraft, military flight testing or evaluation, the designation of new units of special use airspace, or the use or establishment of military flight training routes after appropriate coordination between the Department of Defense and the Department of Agriculture.

Nothing in this proclamation shall be deemed to enlarge or diminish the jurisdiction of the State of California with respect to fish and wildlife management, including hunting and fishing, on the lands reserved by this proclamation.

The Secretary may carry out vegetative management treatments within the monument to the extent consistent with the proper care and management of the objects identified above, including addressing ecological restoration, wildlife connectivity or the risk of wildfire, insect infestation, or disease that would endanger the objects identified in this proclamation or imperil public safety. Nothing in this proclamation shall be deemed to affect the use of prescribed fire within the monument. The Secretary shall evaluate opportunities to enter into one or more agreements with governments, including State, local, and Tribal, regarding the protection of the objects identified above during wildland fire prevention and response efforts.

Nothing in this proclamation shall be construed to alter the authority or responsibility of any party with respect to emergency response activities within the monument, including wildland fire response and search and rescue.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this fourteenth day of January, in the year of our Lord two thousand twenty-five, and of the Independence of the United States of America the two hundred and forty-ninth.

Billing code 3395-F4-P

[FR Doc. 2025-01443

Filed 1-16-25; 11:15 a.m.]

Billing code 3410-10-C